DEPARTMENT OF COMMERCE

National Institute of Standards and Technology

Proposed Information Collection; Comment Request; NIST Center for Neutron Research (NCNR)

ACTION: Notice.

SUMMARY: The Department of Commerce, as part of its continuing effort to reduce paperwork and respondent burden, invites the general public and other Federal agencies to take this opportunity to comment on the proposed and/or continuing information collections, as required by the Paperwork Reduction Act of 1995, Public Law 104-13 (44 U.S.C. 3504(c)(2)(A)).

DATES: Written comments on the proposed collection of information must be submitted on or before July 1, 2002.

ADDRESSES: Submit written comments on the collection of information to Madeleine Clayton, Departmental Paperwork Clearance Officer, Department of Commerce, Room 6608, 1401 Constitution Avenue, NW., Washington, DC 20230, or via the Internet at MClayton@doc.gov.

FOR FURTHER INFORMATION CONTACT: Requests of additional information, for copies of the information collection instrument(s) and instructions should be directed to Ron Cappelletti, 100 Bureau Drive, Stop 8562, Gaithersburg, MD 20899-8562, tel. (301) 975-6221, or ron.cappelletti@nist.gov

SUPPLEMENTARY INFORMATION:

I. Abstract

The NIST Center for Neutron Research (NCNR) is part of the Materials Science and Engineering Laboratory in Gaithersburg, MD. The NCNR is a national center for research using thermal and cold neutrons, offering advanced measurement capabilities for use by all qualified applicants. Many instruments rely on intense beams of cold neutrons emanating from a recently upgraded liquid hydrogen moderator. The application process collects information which is an integral part of the operation of NCNR as a National User Facility. It is comprised of several stages: a competitive, peer-reviewed proposal process, required by the NCNR charter; required site access procedures for successful applicants; and post-visit customer feedback collection.

II. Method of Collection

Web forms and paper forms as a backup method.

III. Data

OMB Number: None.

Form Number: None.

Type of Review: Regular submission.

Affected Public: Individuals or households, business or for-profit.

Estimated Number of Respondents: 400.

Estimated Time Per Response: 2 hours.

Estimated Total Annual Burden Hours: 800 hours.

Estimated Total Annual Cost to the Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Dated: April 25, 2002.
Madeleine Clayton,
Departmental Paperwork Clearance Officer, Office of the Chief Information Officer.

[FR Doc. 02-10624 Filed 4-29-02; 8:45 am]

BILLING CODE 3510-13-P